DEPARTMENT OF ENERGY

Federal Energy Regulatory Commission

Combined Notice of Filings #1

September 20, 2006.

Take notice that the Commission received the following electric corporate filings:

Docket Numbers: EC06-145-001.

Applicants: Rockingham Power, LLC; Dynegy Power Marketing, Inc.; Duke Power Company LLC.

Description: Rockingham Power LLC et al. submit a Master Power Purchase & Sale Agreement, a 2002 Confirmation Agreement; and a 2004 Confirmation Agreement with North Carolina Municipal Power Agency No. 1.

Filed Date: September 13, 2006.

Accession Number: 20060919-0034.

Comment Date: 5 p.m. Eastern Time on Wednesday, September 27, 2006.

Docket Numbers: EC06-162-000: ER99-3502-006.

Applicants: Berkshire Power Company, LLC; Berkshire Power Holdings, LLC.

Description: Berkshire Power Holdings, LLC submits its application for authorization to transfer all of its membership interests in Berkshire Power Co, LLC and a change in status.

Filed Date: September 13, 2006.

Accession Number: 20060919-0126.

Comment Date: 5 p.m. Eastern Time on Wednesday, October 4, 2006.

Docket Numbers: EC06-163-000.

Applicants: PPM Energy, Inc., PPM Wind Energy LLC, Aeolus Wind Power II LLC, Trimont Wind I LLC; Elk River Windfarm LLC; Shiloh I Wind Project LLC; Atlantic Renewable Projects, LLC; Flat Rock Windpower LLC.

Description: PPM Energy, Inc & PPM Wind Energy, LLC et al submit a joint application requesting authorization for an intra-corporate restructuring under which PPM will transfer its ownership interests in 4 wind energy companies to Aeolus II.

Filed Date: September 14, 2006.

Accession Number: 20060919-0128.

Comment Date: 5 p.m. Eastern Time on Thursday, October 5, 2006.

Docket Numbers: EC06-164-000.

Applicants: Boralex Industries, Inc., New Column Fund LLC; Column ATC Fund I LLC.

Description: Boralex Industries, Inc, New Column Fund, LLC and Column ATC Fund I, LLC for approval of the transfer of indirect interest in jurisdictional facilities.

Filed Date: September 15, 2006.

Accession Number: 20060919-0178.

Comment Date: 5 p.m. Eastern Time on Friday, October 6, 2006.

Take notice that the Commission received the following electric rate filings.

Docket Numbers: ER96-780-014.

Applicants: Southern Company Services, Inc.

Description: Southern Company Services, Inc on behalf of Alabama Power Co et al. informs FERC of a development that may be considered to be a reportable change in status.

Filed Date: September 15, 2006.

Accession Number: 20060919-0086.

Comment Date: 5 p.m. Eastern Time on Friday, October 6, 2006.

Docket Numbers: ER99-4122-020; ER06-1505-000.

Applicants: APS Energy Services Company.

Description: APS Energy Services Company, Inc. submits its waiver parts 41, 101, and 141 of Commission's regulations, et al.

Filed Date: September 15, 2006.

Accession Number: 20060914-5073.

Comment Date: 5 p.m. Eastern Time on Friday, October 6, 2006.

Docket Numbers: ER03-739-001.

Applicants: El Dorado Irrigation District.

Description: El Dorado Irrigation District submits its application for its market-based sales tariff, granting authorizations and blanket authority, and waiving certain requirements.

Filed Date: September 15, 2006.

Accession Number: 20060919-0185.

Comment Date: 5 p.m. Eastern Time on Friday, October 6, 2006.

Docket Numbers: ER03-821-001.

Applicants: One Nation Energy Solutions, LLC.

Description: One Nation Energy Solutions, LLC submits its triennial market power update.

Filed Date: September 14, 2006.

Accession Number: 20060919-0174.

Comment Date: 5 p.m. Eastern Time on Thursday, October 5, 2006.

Docket Numbers: ER05-764-004.

Applicants: Montana Alberta Tie, Ltd.

Description: Montana Alberta Tie, Ltd submits a revised open access transmission tariff, in compliance with FERC's July 20, 2006 Order.

Filed Date: September 15, 2006.

Accession Number: 20060919-0213.

Comment Date: 5 p.m. Eastern Time on Friday, October 6, 2006.

Docket Numbers: ER06-1491-000.

Applicants: Aquila Inc.

Description: Aquila, Inc on behalf of Aquila Networks-MPS et al submits revised tariff sheets for their Open Access Transmission Tariff in compliance with FERC's July 20, 2006 Order.

Filed Date: September 15, 2006.

Accession Number: 20060919-0186.

Comment Date: 5 p.m. Eastern Time on Friday, October 6, 2006.

Docket Numbers: ER06-1492-000.

Applicants: Mid-Continent Energy Marketers Associations.

Description: Mid-Continent Energy Marketers Association submits its revised Capacity and Energy Tariff.

Filed Date: September 15, 2006.

Accession Number: 20060919-0187.

Comment Date: 5 p.m. Eastern Time on Friday, October 6, 2006.

Docket Numbers: ER06-1493-000.

Applicants: Niagara Mohawk Power Corporation.

Description: Niagara Mohawk Power Corp dba National Grid submits the final Facilities Study Report to its interconnection service agreement with Besicorp-Empire Power Co, LLC.

Filed Date: September 8, 2006.

Accession Number: 20060919-0175.

Comment Date: 5 p.m. Eastern Time on Friday, September 29, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-15803 Filed 9-26-06; 8:45 am]

BILLING CODE 6717-01-P